DEPARTMENT OF AGRICULTURE

Foreign Agricultural Service

Commodity Credit Corporation

Notice of Request for Extension of Currently Approved Information Collection

AGENCY: Foreign Agricultural Service and Commodity Credit Corporation, USDA.

ACTION: Notice and request for comments.

SUMMARY: In accordance with the Paperwork Reduction Act of 1995, this notice announces the Foreign Agricultural Service's (FAS) intention and Commodity Credit Corporation's (CCC) intention to request on behalf of the Commodity Credit Corporation (CCC) an extension from the Office of Management and Budget (OMB) for a currently approved information collection process in support of the USDA's Agricultural Trade Promotion Program.

DATES: Comments on this notice must be received by July 18, 2022 to be assured of consideration.

ADDRESSES: You may send comments, identified by OMB Control Number 0551-0049, by any of the following methods:

• Federal eRulemaking Portal: http://www.regulations.gov. This portal enables respondents to enter short comments or attach a file containing lengthier comments.

• Email: PODadmin@usda.gov. Include OMB Control Number 0551-0049 in the subject line of the message.

• Mail, Courier, or Hand Delivery: Curt Alt, U.S. Department of Agriculture, Foreign Agricultural Service, 1400 Independence Avenue SW, Room 6512, Washington, DC 20250.

Instructions: All submissions received must include the agency names and OMB Control Number for this notice. All comments received will be posted without change to http://www.regulations.gov, including any personal information provided.

FOR FURTHER INFORMATION CONTACT: Curt Alt, 202 690-4784, Podadmin@usda.gov.

SUPPLEMENTARY INFORMATION: Title: Agricultural Trade Promotion Program.

OMB Number: 0551-0049.

Expiration Date of Approval: August 31, 2022.

Type of Request: Extension of a currently approved information collection.

Abstract: Under the Agricultural Trade Promotion Program (ATP), information will be gathered from existing program participants that have been approved to conduct market promotion activities that promote U.S. agricultural commodities in foreign markets, including activities that address existing or potential non-tariff barriers to trade. The information collected will be used primarily by FAS to manage, plan, evaluate, and account for government resources.

Estimate of Burden: The public reporting burden for each respondent resulting from information collected under the ATP varies in direct relation to the number and type of agreements entered into by such respondents. The estimated average reporting burden for the ATP is 16 hours per response.

Type of Respondents: Nonprofit U.S. agricultural trade organizations, nonprofit state regional trade groups, U.S. agricultural cooperatives, and state agencies.

Estimated Number of Respondents: 63 per annum.

Estimated Number of Responses per Respondent: 55 per annum.

Estimated Total Annual Burden of Respondents: 55,029 hours.

Copies of this information collection can be obtained from Dacia Rogers, the Agency Information Collection Coordinator, at Dacia.Rogers@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for Office of Management and Budget approval.

Persons with disabilities who require an alternative means for communication of information (Braille, large print, audiotape, etc.) should contact FAS-ReasonableAccommodation@usda.gov or Angela Ubrey (Workforce Relations, 202-772-4836).

Robert Ibarra,
Executive Vice President, Commodity Credit Corporation.
Clay Hamilton,
Acting Administrator, Foreign Agricultural Service.

[FR Doc. 2022-10562 Filed 5-16-22; 8:45 am]

BILLING CODE 3410-10-P